DEPARTMENT OF HOUSING AND URBAN DEVELOPMENT

[Docket No. FR-6350-N-01]

Green and Resilient Retrofit Program: Request for Information

AGENCY: Office of the Assistant Secretary for Housing—Federal Housing Commissioner, Department of Housing and Urban Development (HUD).

ACTION: Request for information.

SUMMARY: In response to the passage of the Inflation Reduction Act of 2022, HUD is currently designing a new program, the Green and Resilient Retrofit Program (GRRP), and expects to make multiple rounds of funding available to support energy, and water efficiency retrofits and climate resilience of HUD-assisted multifamily properties. Through this Request for Information (RFI), HUD is seeking input on funding rounds as well as on utility benchmarking. Information provided in response to this RFI will inform prioritization of work, treatment of cost-benefit analyses, and key design elements that will help ensure program goals are met.

DATES: Comments are requested on or before October 27, 2022. Late-filed comments will be considered to the extent practicable.

ADDRESSES: Interested persons are invited to submit comments responsive to this RFI. All submissions must refer to the docket number and title of the RFI. Commenters are encouraged to identify the number of the specific question or questions to which they are responding. Responses should include the name(s) of the person(s) or organization(s) filing the comment; however, because any responses received by HUD will be publicly available, responses should not include any personally identifiable information or confidential commercial information.

There are two methods for submitting public comments.

1. Electronic Submission of Comments. Interested persons may submit comments electronically through the Federal eRulemaking Portal at https://www.regulations.gov.

2. Submission of Comments by Mail. Comments may be submitted by mail to the Regulations Division, Office of General Counsel, Department of Housing and Urban Development, 451 7th Street SW, Room 10276, Washington, DC 20410-0500.

HUD strongly encourages commenters to submit their feedback and recommendations electronically. Electronic submission of comments allows the commenter maximum time to prepare and submit a response, ensures timely receipt by HUD, and enables HUD to make comments immediately available to the public. Comments submitted electronically through the https://www.regulations.gov website can be viewed by other commenters and interested members of the public. Commenters should follow the instructions provided on that site to submit comments electronically.

Note: To receive consideration as public comments, comments must be submitted through one of the two methods specified above. Again, all submissions must refer to the docket number and title of the notice.

Public Inspection of Public Comments. All comments and communications properly submitted to HUD will be available for public inspection and copying between 8 a.m. and 5 p.m. weekdays at the above address. Due to security measures at the HUD Headquarters building, an advance appointment to review the public comments must be scheduled by calling the Regulations Division at (202) 708-3055 (this is not a toll-free number). Individuals can dial 7-1-1 to access the Telecommunications Relay Service (TRS), which permits users to make text-based calls, including Text Telephone (TTY) and Speech to Speech (STS) calls. Individuals who require an alternative aid or service to communicate effectively with HUD should email GRRP@hud.gov and provide a brief description of their preferred method of communication. Copies of all comments submitted are available for inspection and downloading at http://www.regulations.gov.

FOR FURTHER INFORMATION CONTACT: Lauren Ross, Senior Adviser for Housing and Sustainability, Office of Multifamily Housing, Department of Housing and Urban Development, 451 7th Street SW, Room 6106, Washington, DC 20410-0500; telephone number 202-402-5423 (this is not a toll-free number). Individuals can dial 7-1-1 to access the Telecommunications Relay Service (TRS), which permits users to make text-based calls, including Text Telephone (TTY) and Speech to Speech (STS) calls. Individuals who require an alternative aid or service to communicate effectively with HUD should email GRRP@hud.gov and provide a brief description of their preferred method of communication.

SUPPLEMENTARY INFORMATION:

I. Background

The Inflation Reduction Act of 2022 (Pub. L. 117-169) (the Act) makes $837.5 million available to HUD for the provision of loans and grants to fund projects that improve energy or water efficiency, enhance indoor air quality or sustainability, implement the use of zero-emission electricity generation, low-emission building materials or processes, energy storage, or building electrification strategies, and/or address climate resilience. Eligible HUD-assisted multifamily properties include, but are not limited to, Section 8 Project Based Rental Assistance (PBRA), Section 811 Housing for Persons with Disabilities, and Section 202 Housing for the Elderly. The Act also includes $42.5 million for energy and water benchmarking of the HUD-assisted multifamily portfolio along with associated data analysis and evaluation at the property- and portfolio-level, and the development of information technology systems necessary for the collection, evaluation, and analysis of such data.

In response to the passage of the Inflation Reduction Act of 2022, HUD is currently designing a new program, the Green and Resilient Retrofit Program (GRRP), and expects to make multiple rounds of funding available to support energy and water efficiency retrofits and climate resilience of HUD-assisted multifamily properties. HUD is seeking input on funding rounds as well as on benchmarking. Public input will inform prioritization of work, treatment of cost-benefit analyses, and key design elements that will help ensure program goals are met. Overall goals of the GRRP for the HUD-assisted multifamily portfolio include reducing energy consumption and carbon emissions, improving indoor air quality for residents, reducing residents' and properties' exposure to climate hazards, and protecting life, livability, and property when disaster strikes. Additionally, the GRRP will serve to further preserve the long-term affordability of the assisted properties.

II. Purpose of This Request for Information

The purpose of this RFI is to solicit information regarding the design and implementation of the GRRP to support the improvement of energy and water efficiency retrofits, and climate resilience of HUD-assisted multifamily properties.

III. Specific Information Requested

While HUD welcomes all comments relevant to the design and implementation of the GRRP, HUD is particularly interested in receiving input from interested parties on the questions outlined below.

1. HUD is seeking input on program design features, energy-saving measures, low-emission technology, and resilience design and measures that have proven effective in affordable multifamily buildings. How might this program help prioritize and scale best practices for reducing energy consumption and carbon emissions, improving indoor air quality for residents, and strengthening climate resilience among affordable multifamily buildings? How can these measures and practices be deployed in a way that preserves affordability of our properties? Eligible uses for project funding and/or financing include:

a. Improve energy and/or water efficiency.

b. Enhance indoor air quality and/or sustainability.

c. Implement the use of zero-emission electricity generation, low-emission building materials or processes, and/or energy storage, or building electrification strategies.

d. Address climate resilience.

2. This program offers owners of HUD-assisted multifamily properties an opportunity to plan comprehensively around energy efficiency and climate resilience. Often, these goals can be interrelated. Materials and technologies that enhance a building's energy efficiency can also make the building more durable and resilient to threats posed by extreme weather events. It is also possible that some energy efficiency and climate resilience improvements may be in tension. HUD would like recommendations for designing the program to meet energy and emissions reduction goals as well as climate resilience. HUD seeks information on how to balance multiple goals (i.e., energy efficiency, decarbonization, and climate resilience). In addition, given the various eligible uses of funds, cost-effectiveness will vary greatly across projects. How might HUD factor in cost-effectiveness when evaluating applications for energy- and/or resilience-related projects?

3. States, localities, and utilities administer programs aimed at delivering energy efficiency and electrification to affordable multifamily properties. In addition, the Inflation Reduction Act makes significant funding available for home energy rebates for low- and moderate-income households through the U.S. Department of Energy and expands the renewable energy Investment Tax Credit. How might HUD encourage or require applicants to leverage other funding for projects— such as owner equity, other federal, state, local, and/or utility grants, loans, rebates, tax credits, and incentives?

4. HUD seeks to design this program to enable deep retrofits of multifamily properties—retrofits that would likely not be possible without this funding. Certain markets are more primed to deploy deep and resilient retrofits in the multifamily sector, while others may lack the state and local infrastructure and workforce for delivering retrofits in this sector. While HUD seeks to maximize impact, how can HUD best ensure that funding is distributed equitably?

5. HUD's ability to achieve its goal of benchmarking energy and water use for the majority of HUD-assisted multifamily portfolio rests on the availability and accessibility of whole-building aggregate energy data. What role can HUD play to support greater access to this utility data? What opportunities exist for HUD to engage utilities and/or public utility commissions to make this data readily available to our multifamily building owners? What incentives, financial support, and/or technical support would encourage owners to participate and get their properties benchmarked?

6. What equity considerations should HUD consider when implementing property retrofits and benchmarking? HUD-assisted properties exist nationwide, and they disproportionately serve residents who are otherwise underserved by housing markets, including people with disabilities, older adults, and people from communities of color.

7. This will be the first HUD program to target multifamily properties nationwide with property-level resilience interventions at this scale. How can and should HUD evaluate resilience needs and the effectiveness of these interventions, considering the variety of natural hazards and that the effectiveness of many resilience strategies are truly tested only when a disaster event strikes? How should HUD balance geographic disparities in the needs for resilience interventions (i.e., more frequent in coastal areas) and the availability of other funds, from HUD and other agencies, for recovering from disasters?

Jeffrey D. Little,
General Deputy Assistant Secretary for Housing.

[FR Doc. 2022-20855 Filed 9-26-22; 8:45 am]

BILLING CODE 4210-67-P